DEPARTMENT OF THE INTERIOR

National Park Service

[NPS-WASO-NAGPRA-NPS0037165; PPWOCRADN0-PCU00RP14.R50000]

Notice of Inventory Completion: Oregon Health & Science University, Portland, OR

AGENCY: National Park Service, Interior.

ACTION: Notice.

SUMMARY: In accordance with the Native American Graves Protection and Repatriation Act (NAGPRA), the Oregon Health & Science University (OHSU) has completed an inventory of human remains and has determined that there is no cultural affiliation between the human remains and any Indian Tribe. The human remains were removed from an unknown geographic location in Oregon or Washington.

DATES: Disposition of the human remains in this notice may occur on or after February 2, 2024.

ADDRESSES: Alice Cuprill Comas, Oregon Health & Science University, 3181 SW Sam Jackson Park Rd., Portland, OR 97239, telephone (503) 494-5222, email legal@ohsu.edu.

SUPPLEMENTARY INFORMATION: This notice is published as part of the National Park Service's administrative responsibilities under NAGPRA. The determinations in this notice are the sole responsibility of the OHSU. The National Park Service is not responsible for the determinations in this notice. Additional information on the determinations in this notice, including the results of consultation, can be found in the inventory or related records held by the OHSU.

Description

Human remains representing, at minimum, two individuals were removed from an unknown geographic location or locations, believed to be in Oregon or Washington. On an unknown date, the human remains (MMC-2008-16.1.6[3]; MMC-2008-16.1.6[5]) came to the OHSU, where they became a part of the Medical Museum Collection. No associated funerary objects are present.

Human remains representing, at minimum, one individual were removed from an unknown geographic location, believed to be in Oregon or Washington. On an unknown date, the human remains (teeth) (SOD-2010.281.17) were removed from an unknown patient of Dr. Ernest Starr, Interim Dean of the University of Oregon Dental School from 1944 to 1946, or one of his colleagues. The University of Oregon Dental School then became the OHSU. On an unknown date, the human remains were transferred to the Oregon Health & Science University School of Dentistry, where they became part of what was called the “Ernest E. Starr Memorial Museum of Dental Anomalies.” No associated funerary objects are present.

Human remains representing, at minimum, four individuals were removed from an unknown geographic location or locations, believed to be in Oregon or Washington. On an unknown date, the human remains (SOD-2010-2.281.17[5]; SOD-2010-2.281.17[9]; SOD-2010-2.281.17[10]; SOD-2010-2.281.17[1]) were transferred to the School of Dentistry at Oregon Health & Science University, where they were used for teaching purposes. The School of Dentistry changed buildings in 2011 or 2012. Based on institutional knowledge, the 2010 catalog numbers that include “SOD” were likely assigned in anticipation of that move, when the School of Dentistry collections were moved to the OHSU Archives. No associated funerary objects are present.

Aboriginal Land

The human remains in this notice were removed from known geographic locations. These locations are the aboriginal lands of one or more Indian Tribes. The following information was used to identify the aboriginal land: a final judgment of the Indian Claims Commission, the United States Court of Claims, a treaty, an Act of Congress, an Executive Order, and other information, such as expert testimony.

Determinations

Pursuant to NAGPRA and its implementing regulations, and after consultation with the appropriate Indian Tribes, the OHSU has determined that:

• The human remains described in this notice represent the physical remains of seven individuals of Native American ancestry.

• No relationship of shared group identity can be reasonably traced between the human remains and any Indian Tribe.

• The human remains described in this notice were removed from the aboriginal land of the Big Pine Paiute Tribe of the Owens Valley; Bishop Paiute Tribe; Bridgeport Indian Colony; Burns Paiute Tribe; Cedarville Rancheria, California; Chemehuevi Indian Tribe of the Chemehuevi Reservation, California; Coeur D'Alene Tribe; Confederated Tribes and Bands of the Yakama Nation; Confederated Tribes of Siletz Indians of Oregon; Confederated Tribes of the Chehalis Reservation; Confederated Tribes of the Colville Reservation; Confederated Tribes of the Coos, Lower Umpqua, and Siuslaw Indians; Confederated Tribes of the Grand Ronde Community of Oregon; Confederated Tribes of the Umatilla Indian Reservation; Confederated Tribes of the Warm Springs Reservation of Oregon; Coquille Indian Tribe; Cow Creek Band of Umpqua Tribe of Indians; Cowlitz Indian Tribe; Duckwater Shoshone Tribe of the Duckwater Reservation, Nevada; Eastern Shoshone Tribe of the Wind River Reservation, Wyoming; Ely Shoshone Tribe of Nevada; Fort Bidwell Indian Community of the Fort Bidwell Reservation of California; Fort Independence Indian Community of Paiute Indians of the Fort Independence Reservation, California; Fort McDermitt Paiute and Shoshone Tribes of the Fort McDermitt Indian Reservation, Nevada and Oregon; Hoh Indian Tribe; Jamestown S'Klallam Tribe; Kaibab Band of Paiute Indians of the Kaibab Indian Reservation, Arizona; Kalispel Indian Community of the Kalispel Reservation; Klamath Tribes; Las Vegas Tribe of Paiute Indians of the Las Vegas Indian Colony, Nevada; Lone Pine Paiute-Shoshone Tribe; Lovelock Paiute Tribe of the Lovelock Indian Colony, Nevada; Lower Elwha Tribal Community; Lummi Tribe of the Lummi Reservation; Makah Indian Tribe of the Makah Indian Reservation; Moapa Band of Paiute Indians of the Moapa River Indian Reservation, Nevada; Modoc Nation; Muckleshoot Indian Tribe; Nez Perce Tribe; Nisqually Indian Tribe; Nooksack Indian Tribe; Northwestern Band of the Shoshone Nation; Paiute Indian Tribe of Utah (Cedar Band of Paiutes, Kanosh Band of Paiutes, Koosharem Band of Paiutes, Indian Peaks Band of Paiutes, and Shivwits Band of Paiutes); Paiute-Shoshone Tribe of the Fallon Reservation and Colony, Nevada; Port Gamble S'Klallam Tribe; Puyallup Tribe of the Puyallup Reservation; Pyramid Lake Paiute Tribe of the Pyramid Lake Reservation, Nevada; Quartz Valley Indian Community of the Quartz Valley Reservation of California; Quileute Tribe of the Quileute Reservation; Quinault Indian Nation; Reno-Sparks Indian Colony, Nevada; Samish Indian Nation; San Juan Southern Paiute Tribe of Arizona; Sauk-Suiattle Indian Tribe; Shoalwater Bay Indian Tribe of the Shoalwater Bay Indian Reservation; Shoshone-Bannock Tribes of the Fort Hall Reservation; Shoshone-Paiute Tribes of the Duck Valley Reservation, Nevada; Skokomish Indian Tribe; Snoqualmie Indian Tribe; Spokane Tribe of the Spokane Reservation; Squaxin Island Tribe of the Squaxin Island Reservation; Stillaguamish Tribe of Indians of Washington; Summit Lake Paiute Tribe of Nevada; Suquamish Indian Tribe of the Port Madison Reservation; Susanville Indian Rancheria, California; Swinomish Indian Tribal Community; Te-Moak Tribe of Western Shoshone Indians of Nevada (Four constituent bands: Battle Mountain Band; Elko Band; South Fork Band; and Wells Band); Timbisha Shoshone Tribe; Tulalip Tribes of Washington; Twenty-Nine Palms Band of Mission Indians of California; Upper Skagit Indian Tribe; Utu Utu Gwaitu Paiute Tribe of the Benton Paiute Reservation, California; Walker River Paiute Tribe of the Walker River Reservation, Nevada; Winnemucca Indian Colony of Nevada; Yerington Paiute Tribe of the Yerington Colony & Campbell Ranch, Nevada; and the Yomba Shoshone Tribe of the Yomba Reservation, Nevada.

Requests for Disposition

Written requests for disposition of the human remains in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains described in this notice to a requestor may occur on or after February 2, 2024. If competing requests for disposition are received, the OHSU must determine the most appropriate requestor prior to disposition. Requests for joint disposition of the human remains are considered a single request and not competing requests. The OHSU is responsible for sending a copy of this notice to the Indian Tribes identified in this notice.

Authority: Native American Graves Protection and Repatriation Act, 25 U.S.C. 3003, and the implementing regulations, 43 CFR 10.9 and 10.11.

Dated: December 20, 2023.
Melanie O'Brien,
Manager, National NAGPRA Program.

[FR Doc. 2023-28920 Filed 1-2-24; 8:45 am]

BILLING CODE 4312-52-P